DEPARTMENT OF DEFENSE

Office of the Secretary

Defense Business Board; Notice of Federal Advisory Committee Meeting

AGENCY: Chief Management Officer, Department of Defense.

ACTION: Notice of federal advisory committee meeting.

SUMMARY: The Department of Defense (DoD) is publishing this notice to announce that the following Federal Advisory Committee meeting of the Defense Business Board will take place.

DATES: Open to the public Wednesday, November 7, 2018 from 1:30 p.m. to 3:00 p.m.

ADDRESSES: The address for the meeting is Room 3E928 in the Pentagon, Washington, DC.

FOR FURTHER INFORMATION CONTACT: Roma Laster, (703) 695-7563 (Voice), (703) 614-4365 (Facsimile), roma.k.laster.civ@mail.mil (Email). Mailing address is Defense Business Board, 1155 Defense Pentagon, Room 5B1088A, Washington, DC 20301-1155. Website: http://dbb.defense.gov/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

For meeting information please contact Mr. Steve Cruddas, Defense Business Board, 1155 Defense Pentagon, Room 5B1088A, Washington, DC 20301-1155, email: steven.m.cruddas.civ@mail.mil, telephone (703) 697-2168. A copy of the public agenda and other documentation may be obtained from the Board's website at http://dbb.defense.gov/meetings.

Purpose of the Meeting: The mission of the Board is to examine and advise the Secretary of Defense on overall DoD management and governance. The Board provides independent advice which reflects an outside private sector perspective on proven and effective best business practices that can be applied to the DoD. The Board will receive an update from its subcommittee on the 2019 NDAA-directed study on industry-government exchange.

Agenda: 1:30 p.m.-2:45 p.m.-Update on 2019 NDAA-directed study on Industry-Government Exchange 2:45 p.m.-3:00 p.m.-Public comments (if time permits) 3:00 p.m.-Public session adjourned.

Meeting Accessibility: Pursuant to FACA and 41 CFR 102-3.140, this meeting is open to the public. Seating is limited and is on a first-come basis. All members of the public who wish to attend the public meeting must contact Mr. Steve Cruddas at the email or telephone number listed in the SUPPLEMENTARY INFORMATION section no later 2:00 p.m. on Thursday, November 1, 2018 to register and make arrangements for a Pentagon escort, if necessary. Individuals requiring special accommodations to access the public meeting should contact Mr. Steve Cruddas at least five (5) business days prior to the meeting so that appropriate arrangements can be made.

Written Statements: Written comments should be received by the Designated Federal Officer (DFO) at least five (5) business days prior to the meeting date so that the comments may be made available to the Board for their consideration prior to the meeting. Written comments should be submitted via email to mailbox address: osd.pentagon.odam.mbx.defense-business-board@mail.mil in either Adobe Acrobat or Microsoft Word format. Please note that since the Board operates under the provisions of the FACA, as amended, all submitted comments and public presentations will be treated as public documents and will be made available for public inspection, including, but not limited to, being posted on the Board's website.

Dated: October 9, 2018.
Aaron T. Siegel,
Alternate OSD Federal Register Liaison Officer, Department of Defense.

[FR Doc. 2018-22297 Filed 10-12-18; 8:45 am]

BILLING CODE 5001-06-P